SMALL BUSINESS ADMINISTRATION

[Disaster Declaration #17881 and #17882; Indiana Disaster Number IN-00080]

Presidential Declaration of a Major Disaster for the State of Indiana

AGENCY: U.S. Small Business Administration.

ACTION: Notice.

SUMMARY: This is a Notice of the Presidential declaration of a major disaster for the State of Indiana (FEMA-4704-DR), dated 04/15/2023.

Incident: Severe Storms, Straight-line Winds, and Tornadoes.

Incident Period: 03/31/2023 through 04/01/2023.

DATES: Issued on 04/15/2023.

Physical Loan Application Deadline Date: 06/14/2023.

Economic Injury (EIDL) Loan Application Deadline Date: 01/15/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 04/15/2023, applications for disaster loans may be filed at the address listed above or other locally announced locations.

The following areas have been determined to be adversely affected by the disaster:

Primary Counties (Physical Damage and Economic Injury Loans): Allen, Benton, Clinton, Grant, Howard, Johnson, Lake, Monroe, Morgan, Owen, Sullivan, White.

Contiguous Counties (Economic Injury Loans Only):

Indiana: Adams, Bartholomew, Blackford, Boone, Brown, Carroll, Cass, Clay, De Kalb, Delaware, Greene, Hamilton, Hendricks, Huntington, Jackson, Jasper, Knox, Lawrence, Madison, Marion, Miami, Montgomery, Newton, Noble, Porter, Pulaski, Putnam, Shelby, Tippecanoe, Tipton, Vigo, Wabash, Warren, Wells, Whitley.

Illinois: Clark, Cook, Crawford, Iroquois, Kankakee, Vermilion, Will.

Ohio: Defiance, Paulding, Van Wert.

The Interest Rates are:

| Percent
For Physical Damage:
Homeowners with Credit Available Elsewhere | 4.750
Homeowners without Credit Available Elsewhere | 2.375
Businesses with Credit Available Elsewhere | 8.000
Businesses without Credit Available Elsewhere | 4.000
Non-Profit Organizations with Credit Available Elsewhere | 2.375
Non-Profit Organizations without Credit Available Elsewhere | 2.375
For Economic Injury:
Businesses & Small Agricultural Cooperatives without Credit Available Elsewhere | 4.000
Non-Profit Organizations without Credit Available Elsewhere | 2.375

The number assigned to this disaster for physical damage is 17881 C and for economic injury is 17882 0.

(Catalog of Federal Domestic Assistance Number 59008)

Francisco Sánchez, Jr.
Associate Administrator, Office of Disaster Recovery & Resilience.

[FR Doc. 2023-08454 Filed 4-20-23; 8:45 am]

BILLING CODE 8026-09-P